DEPARTMENT OF ENERGY

Federal Energy Regulatory Commission

[Docket No. RP98-18-013]

Iroquois Gas Transmission System, L.P.; Notice of Negotiated Rate

July 28, 2004.

Take notice that on July 26, 2004, Iroquois Gas Transmission System, L.P. (Iroquois) tendered for filing Substitute Original Sheet No. 6B as part if its FERC Gas Tariff, First Revised Volume No. 1, proposed to become effective July 19, 2004.

Iroquois states that the sole purpose for this filing is to correct footnote 4 of Original Sheet No. 4B submitted with Iroquois' July 19, 2004, filing in this docket, which inadvertently failed to list the Measurement Variance/Fuel Use Factor as one of the surcharges that Consolidated Edison Company of New York, Inc. will pay under its negotiated rate agreement with Iroquois.

Iroquois states that copies of its filing were served on all jurisdictional customers and interested state regulatory agencies and all parties to the proceeding.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Acting Secretary.

[FR Doc. E4-1706 Filed 8-2-04; 8:45 am]

BILLING CODE 6717-01-P